DEPARTMENT OF DEFENSE

Office of the Secretary

Threat Reduction Advisory Committee; Notice of Closed Federal Advisory Committee Meeting

AGENCY: Department of Defense (DoD), Office of the Under Secretary of Defense (Acquisition, Technology, and Logistics).

ACTION: Federal Advisory Committee meeting notice.

SUMMARY: The Department of Defense announces the following closed Federal Advisory Committee meeting of the Threat Reduction Advisory Committee (TRAC).

DATES: Thursday, September 29, 2016, from 8:30 a.m. to 5 p.m. and Friday, September 30, 2016, from 8:30 a.m. to 3 p.m.

ADDRESSES: CENTRA Technology Inc., Arlington, VA on September 29, 2016, and CENTRA Technology, Inc., Arlington, VA and the Pentagon, Washington, DC on September 30, 2016.

FOR FURTHER INFORMATION CONTACT: Mr. William Hostyn, DoD, Defense Threat Reduction Agency (DTRA) J2/5/AC, 8725 John J. Kingman Road, MS 6201, Fort Belvoir, VA 22060-6201. Email: william.p.hostyn.civ@mail.mil. Phone: (703) 767-4453. Fax: (703) 767-4206.

SUPPLEMENTARY INFORMATION:

Purpose of Meeting: This meeting is being held under the provisions of the Federal Advisory Committee Act of 1972 (FACA) (5 U.S.C., Appendix, as amended), the Government in the Sunshine Act of 1976 (5 U.S.C. 552b, as amended), and 41 CFR 102-3.150. The TRAC will obtain, review, and evaluate classified information related to the TRAC's mission to provide advice on technology security, Combating Weapons of Mass Destruction (CWMD), counterterrorism, and counterproliferation.

Agenda:

All discussions for the two-day meeting will be classified at the secret level or higher. On Thursday, September 29, Designated Federal Officer William Hostyn will make his remarks, and then the TRAC Chair, Ambassador Ronald Lehman, will open the meeting with comments that outline the topics to be covered in the two-day meeting. Following the opening remarks, the TRAC will hear from the Principal Deputy, Performing the Duties of the Assistant Secretary of Defense for Nuclear, Chemical and Biological Defense Programs, Dr. Arthur Hopkins on updates regarding Unified Command Plan changes and the implications for the DoD mission of CWMD. Following Dr. Hopkins' remarks, there will be a classified intelligence briefing covering emerging biological threats relating to state and non-state actors. The TRAC will then receive a classified brief on “Theories of Victory, Red and Blue” from Dr. Roberts of Lawrence Livermore National Laboratory, which will detail the shift from global to regional conflict as the central paradigm of 21st century strategic conflict and assess regional powers' evolving notions of how to deter U.S. power projection and the U.S. response. Next, the TRAC will hear from Dr. William Schneider on cross domain deterrence issues affecting the nuclear-armed escalatory matrix. The TRAC will have a working lunch and will receive a classified briefing from the Defense Threat Reduction Agency on biological detection capabilities. Following that discussion, the TRAC will discuss, deliberate, and finalize the findings and recommendations of the studies on Russian and Chinese provocations as well as CWMD in North Korea in preparation for the meeting on day two with the TRAC's sponsor, Under Secretary of Defense for Acquisition, Technology and Logistics.

The TRAC will continue the meeting on September 30, 2016. The group will first discuss prospective new studies and next steps for the TRAC in 2017-2018 based on the sponsor's guidance and direction. The TRAC will then receive a classified brief from Dr. Bates on emerging biological threats and technological proliferation issues. The TRAC members will review the final recommendations on Russia, China and North Korea over a working lunch. The TRAC will then transition to the Pentagon, where they will provide Under Secretary Kendall with a brief from the previous day's meeting on the finding and recommendations on Russia and China Provocations and CWMD in North Korea. At the conclusion of the discussion, the Chair will adjourn the 38th Plenary.

Meeting Accessibility: Pursuant to section 10(d) of the FACA, 5 U.S.C. 552b(c), and 41 CFR 102-3.155, the DoD has determined that the meeting shall be closed to the public. The Under Secretary of Defense for Acquisition, Technology, and Logistics, in consultation with the DoD FACA Attorney, has determined in writing that all sessions of this meeting are required to be closed to the public because the discussions will contain classified information and matters covered by 5 U.S.C. 552b(c)(1). Such classified matters are inextricably intertwined with the unclassified material and cannot reasonably be segregated into separate discussions without disclosing secret-level or higher material.

Advisory Committee's Designated Federal Officer or Point of Contact: Mr. William Hostyn, DoD, Defense Threat Reduction Agency, J2/5/AC, 8725 John J. Kingman Road, MS 6201, Fort Belvoir, VA 22060-6201. Email: william.p.hostyn.civ@mail.mil. Phone: (703) 767-4453. Fax: (703) 767-4206.

Written Statements: Pursuant to section 10(a)(3) of FACA and 41 CFR 102-3.105(j) and 102-3.140, the public or interested organizations may submit written statements to the membership of the TRAC at any time or in response to the stated agenda of a planned meeting. Written statements should be submitted to the TRAC's Designated Federal Officer. The Designated Federal Officer's contact information is listed in this notice, or it can be obtained from the General Services Administration's FACA Database: http://www.facadatabase.gov/committee/committee.aspx?cid=1663&aid=41. Written statements that do not pertain to a scheduled meeting of the TRAC may be submitted at any time. However, if individual comments pertain to a specific topic being discussed at a planned meeting, then these statements must be submitted no later than five business days prior to the meeting in question. The Designated Federal Officer will review all submitted written statements and provide copies to all TRAC members.

Dated: August 25, 2016.
Aaron Siegel,
Alternate OSD Federal Register Liaison Officer, Department of Defense.

[FR Doc. 2016-20895 Filed 8-29-16; 8:45 am]

BILLING CODE 5001-06-P